DEPARTMENT OF HEALTH AND HUMAN SERVICES

Centers for Disease Control and Prevention

[60Day-03-90]

Agency for Toxic Substances and Disease Registry; Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210. CDC is requesting an emergency clearance for this data collection with a week comment period. CDC is requesting OMB approval of this package seven days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within seven days of this notice.

Proposed Project: Monkeypox Outbreak Investigation—New—National Center for Infectious Diseases (NCID), Centers for Disease Control and Prevention (CDC). The purpose of this project is to respond to an outbreak of Monkeypox virus, which belongs to the orthopoxvirus group of viruses. Monkeypox clinically resembles smallpox but differs both biologically and epidemiologically. Monkeypox was first introduced into the Western hemisphere in April 2003. The source of the virus was traced back to a distributor of exotic animals, where prairie dogs and Gambian giant rats were housed together in Illinois. These rats were shipped from Ghana in April to a wildlife importer in Texas and subsequently sold to the Illinois distributor.

On June 4, 2003, the first human cases of monkeypox in the U.S. were discovered in patients in Illinois and Wisconsin. The source of the contact was a pet prairie dog. Since then, 81 confirmed, probable and suspect human cases have been reported in six different states. CDC has been involved in the investigation of this outbreak. In order to further the investigation, several collections of information are required. Currently, CDC is collecting this information under an Epidemic Aid (epi-aid) which will expire in 30 days. To preserve continuity in the surveillance information collected by public health investigators, CDC is requesting an emergency clearance (six-month) on the current surveillance forms. The information collected includes contact information for patients and animal distributors. There are no costs to the respondents.

Form | Respondent | No. of respondents | No. of responses per respondent | Avg. burden per response (in hrs.) | Total burden (in hrs.)
1. Monkeypox Case Investigation Form | State/local health department | 81 | 1 | 30/60 | 41
2. Monkeypox Contact/Site Worksheet | Case Contacts | 320 | 1 | 20/60 | 107
3. Monkeypox Contact Surveillance Form | Case Contacts | 320 | 1 | 10/60 | 53
4. Vaccine | State/local health department | 100 | 1 | 15/60 | 25
5. Detailed Data Collection Form | State/local health department | 32 | 1 | 60/60 | 32
Total |  |  |  |  | 258

Dated: July 3, 2003.
Thomas A. Bartenfeld,
Acting Associate Director for Policy, Planning and Evaluation, Centers for Disease Control and Prevention.

[FR Doc. 03-17433 Filed 7-9-03; 8:45 am]

BILLING CODE 4163-18-P